DEPARTMENT OF TRANSPORTATION

Federal Aviation Administration

Agency Information Collection Activity Under OMB Review, Request for Comments; Renewal of an Approved Information Collection Activity, Operating Requirements: Commuter and On-Demand Operation

AGENCY: Federal Aviation Administration (FAA), DOT.

ACTION: Notice and request for comments.

SUMMARY: The FAA invites public comments about our intention to request the Office of Management and Budget's (OMB) renewal of a current information collection. The Federal Register Notices with a 60-day comment period soliciting comments on the following collection of information was published on January 18, 2006, volume 71, #11, page 2982. Standards have been established for the operation of agricultural aircraft and for the dispensing of chemicals, pesticides, and toxic substances. Information collected shows applicant compliance and eligibility for certification by FAA.

DATES: Please submit comments by May 24, 2006.

FOR FURTHER INFORMATION CONTACT: Judy Street on (202) 267-9895.

SUPPLEMENTARY INFORMATION:

Federal Aviation Administration (FAA)

Title: Operating Requirements: Commuter and On-Demand Operation.

Type of Request: Revision of an approved collection.

OMB Control Number: 2120-0039.

Form(s): FAA Form 8070-1.

Affected Public: A total of 2426 respondents.

Frequency: The information is collected on an as-needed basis.

Estimated Average Burden Per Response: Approximately 30 minutes per response, depending on the activity.

Estimated Annual burden Hours: an estimated 1,147,928 hours annually.

Abstract: Title 49 U.S.C. 44702, authorizes the issuance of air carrier operating certificates. 14 CFR part 135 prescribes requirements for Air Carrier/Commercial Operators. The information collected shows compliance and applicant eligibility.

ADDRESSES: Send comments to the Office of Information and Regulatory Affairs, Office of management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on April 18, 2006.
Judith D. Street,
FAA Information Collection Clearance Officer, Information Systems and Technology Services Staff, ABA-20.

[FR Doc. 06-3857 Filed 4-21-06; 8:45 am]

BILLING CODE 4910-13-M